Title 3—

The President

Proclamation 7805 of August 16, 2004

National Airborne Day, 2004

By the President of the United States of America

A Proclamation

Americans look to the members of our Armed Forces as examples of honor and patriotism. On National Airborne Day, we commemorate the first official Army parachute jump on August 16, 1940, and salute a distinguished group of individuals whose courage and dedication have earned them a cherished place in American history.

Our Nation's Airborne forces have helped liberate millions from oppression and extend peace and freedom around the world. From the initial tests of this new medium of warfare, to the establishment of venerable units serving today, these brave men and women have expanded the vision and capabilities of our Armed Forces. The Army designated the first Airborne division on August 15, 1942, and the 82nd Airborne Division set the standard for achievement and built a proud legacy of service. Many units followed in their footsteps, fighting bravely in battle and serving our country with distinction in World War II, Korea, Vietnam, and other critical missions.

Today's Airborne forces continue the tradition of excellence and determination as we fight the global war on terror. In Afghanistan and Iraq, they have helped advance peace and democracy and defended the American people from danger. We are grateful for their service and continue to stand solidly behind the men and women of our Airborne forces, and all those in our military, as they serve on the front lines of freedom.

NOW, THEREFORE, I, GEORGE W. BUSH, President of the United States of America, by virtue of the authority vested in me by the Constitution and laws of the United States, do hereby proclaim August 16, 2004, as National Airborne Day. I encourage all Americans to join me in honoring those who have served in the Airborne forces. I call upon all citizens to observe this day with appropriate programs, ceremonies, and activities.

IN WITNESS WHEREOF, I have hereunto set my hand this sixteenth day of August, in the year of our Lord two thousand four, and of the Independence of the United States of America the two hundred and twenty-ninth.

B

[FR Doc. 04-19111

Filed 8-17-04; 10:52 am]

Billing code 3195-01-P